DEPARTMENT OF HOMELAND SECURITY

Bureau of Customs and Border Protection

Notice of Cancellation of Customs Broker Permit

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker local permits are canceled without prejudice.

Name | Permit No. | Issuing port
Peter J. Michalczyk | 065 | Great Falls.
Albert J. Marino | 52-03-ATL | Miami.
AIT Customs Brokerage, Inc | 20508 | Philadelphia.
Holland Customs Brokers, Inc | 01-17-007 | Atlanta.
DHL Airways Inc | F11 | Miami.
International Cargo Exchange Logistics, Inc | 17-02 | Atlanta.
George William Rueff, Inc | 19-03-407 | Mobile.
GPS Customhouse Brokerage, Inc | 53-03-W22 | Houston.
Terry W. Barnes | 96-20-003 | New Orleans.
Rialto, Inc | 079 | Seattle.
Malu Maria Perez | FQ8 | Miami.
Global Transportation Services, Inc | 52-2002-015-H41 | Miami.
USF Worldwide | M34 | Miami.
Savino del Bene USA (California), Inc | 10157 | San Francisco.
Savino del Bene (Texas), Inc | 97-008 | Houston.
Savino del Bene International Freight Forwarders, Inc | 04-0144 | Boston.
Savino del Bene (Florida), Inc | 5201AS7 | Miami.

Dated: January 14, 2004.
Jayson P. Ahern,
Assistant Commissioner, Office of Field Operations.

[FR Doc. 04-1627 Filed 1-26-04; 8:45 am]

BILLING CODE 4820-02-P